DEPARTMENT OF LABOR

Employment and Training Administration

[TA-W-54,957]

Union Carbide Corp., a Subsidiary of Dow Chemical Co., West Virginia Operations, South Charleston, West Virginia; Notice of Revised Determination on Reopening

On July 9, 2004, the Department, on its own motion, reopened its investigation for the former workers of the subject firm.

The initial investigation resulted in a negative determination issued on June 30, 2004, applicable to workers of the subject firm in the Control Group. The investigation findings showed that the workers performing global engineering and support services did not support the domestic production of the firm. The denial notice will soon be published in the Federal Register.

The Department obtained new information that warranted a reexamination of the findings of the investigation. Furthermore, the Department is expanding the worker group to include the total of the West Virginia Operations, South Charleston, West Virginia. The findings of the investigation on reopening determined that production, employment and sales have declined over the relevant period. In relation, company imports of chemicals and the derivatives thereof that are like or directly competitive with those produced at the West Virginia Operations have increased.

In accordance with section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful consideration of the new facts obtained on reopening, it is concluded that increased imports of articles like or directly competitive with the chemicals or derivatives thereof produced by Union Carbide, a subsidiary of Dow Chemical Company, West Virginia Operations, South Charleston, West Virginia contributed importantly to the decline in sales or production and to the total or partial separation of workers of the subject firm. In accordance with the provisions of the Trade Act of 1974, I make the following revised determination:

All workers of Union Carbide, a subsidiary of Dow Chemical Company, West Virginia Operations, South Charleston, West Virginia, who became totally or partially separated from employment on or after May 20, 2003, through two years from the date of certification, are eligible to apply for adjustment assistance under section 223 of the Trade Act of 1974, and are also eligible to apply for alternative trade adjustment assistance under section 246 of the Trade Act of 1974.

Signed in Washington, DC, this 26th day of July, 2004.
Linda G. Poole,
Certifying Officer, Division of Trade Adjustment Assistance.

[FR Doc. 04-17716 Filed 8-3-04; 8:45 am]

BILLING CODE 4510-30-P